DEPARTMENT OF THE INTERIOR

National Park Service

[NPS-WASO-NRNHL-DTS#-27707; PPWOCRADI0, PCU00RP14.R50000]

National Register of Historic Places; Notification of Pending Nominations and Related Actions

AGENCY: National Park Service, Interior.

ACTION: Notice.

SUMMARY: The National Park Service is soliciting comments on the significance of properties nominated before April 13, 2019, for listing or related actions in the National Register of Historic Places.

DATES: Comments should be submitted by May 15, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before April 13, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

DISTRICT OF COLUMBIA

District of Columbia

Holy Redeemer College, 3112 Seventh St. NE, Washington, SG100003958

GEORGIA

Fulton County

Kiser, M.C., Company Building, 210 Pryor St. SW, Atlanta, SG100003966

MASSACHUSETTS

Hampshire County

First Congregational Church, 1 Church St., South Hadley, SG100003963

Plymouth County

Cove Street Historic District, 22-66 Cove St. & 56 Old Cove Rd., Duxbury, SG100003964

MINNESOTA

St. Louis County

Mesaba Co-operative Park, 3827 Mesaba Park Rd., Hibbing, SG100003961

WISCONSIN

Dane County

Sun Prairie Downtown Historic District, 100-245 E. Main St., Sun Prairie, SG100003955

In the interest of preservation, a SHORTENED comment period has been requested for the following resource:

VIRGINIA

Richmond Independent City

Manchester Trucking and Commercial Historic District, Primarily along Commerce Rd., Gordon & Dinwiddie Aves., Richmond, SG100003965, Comment period: 3 days

A request for removal has been made for the following resource:

MINNESOTA

Cass County

Minnesota State Sanatorium for Consumptives, 7232 Ah-Gwah-Ching Rd. NW, Walker vicinity, OT01000766

Additional documentation has been received for the following resources:

ARIZONA

Pima County

Colonia Solana Residential Historic District, Roughly bounded by Broadway Blvd., S. Randolph Way, Camino Campestre, and S. Country Club, Tucson, AD88002963

Yavapai County

Clarkdale Historic District, Roughly along Main St., roughly bounded by Verde R. including industrial smelter site., Clarkdale, AD97001586

Nominations submitted by Federal Preservation Officers:

VIRGINIA

Fredericksburg Independent City

Fredericksburg and Spotsylvania County Battlefields Memorial National Military Park, Fredericksburg and W and SW areas in Spotsylvania County, Fredericksburg vicinity, AD66000046

A request for removal has been made for the following resource:

FLORIDA

Collier County

Monroe Station, Jct. of Tamiami Trail and Loop Rd., Ochopee vicinity, OT00000427

Authority: Section 60.13 of 36 CFR part 60.

Dated: April 17, 2019.
Christopher Hetzel,
Acting Chief, National Register of Historic Places/National Historic Landmarks Program.

[FR Doc. 2019-08694 Filed 4-29-19; 8:45 am]

BILLING CODE 4312-52-P